DEPARTMENT OF JUSTICE

[OMB Number 1105-NEW]

Agency Information Collection Activities; Proposed collection, comments requested: Leased/Charter Flight Personnel Expedited Clearance Request

ACTION: 30-day Notice of Information Collection Under Review.

The Department of Justice, U.S. Marshals Service will be submitting the following information collection request to the Office of Management and Budget (OMB) for review and clearance in accordance with established review procedures of the Paperwork Reduction Act of 1995. The proposed information collection is published to obtain comments from the public and affected agencies. This proposed information collection was previously published in the Federal Register Volume 77, Number 72, page 22346, on April 13, 2012, allowing for a 60 day comment period.

The purpose of this notice is to allow for an additional 30 days for public comment until July 19, 2012. This process is conducted in accordance with 5 CFR 1320.10.

All comments and suggestions, or questions regarding additional information, to include obtaining a copy of the proposed information collection instrument with instructions, should be directed to Nicole Feuerstein, U.S. Marshals Service, CS-3, 10th Fl., 2604 Jefferson Davis Hwy., Alexandria, VA 22301 (Phone: 202-307-5168).

Written comments and suggestions from the public and affected agencies concerning the proposed collection of information are encouraged. Comments should address one or more of the following four points:

1. Evaluate whether the proposed collection of information is necessary for the proper pperformance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including the use of automated, electronic, mechanical, or other technological collection techniques of other forms of information technology, e.g., permitting electronic submission of responses.

Overview of This Information Collection

1. Type of information collection: New collection.

2. The title of the form/collection: Leased/Charter Flight Personnel Expedited Clearance Request.

3. The agency form number, if any, and the applicable component of the department sponsoring the collection: Form USM-271, U.S. Marshals Service, Department of Justice.

4. Affected public who will be asked or required to respond, as well as a brief abstract: Primary—Individuals or households. This form is to be completed by people applying to become contract flight crew members. It is required so that USMS can perform an expedited background check before workers may be hired to transport USMS and Bureau of Prisons prisoners.

5. An estimate of the total number of respondents and the amount of time estimated for an average respondent to respond: It is estimated that 80 respondents will complete a 5 minute form.

6. An estimate of the total public burden (in hours) associated with this collection: There are an estimated 7 annual total burden hours associated with this collection.

If additional information is required contact: Jerri Murray, Department Clearance Officer, Justice Management Division, United States Department of Justice, Policy and Planning Staff, Two Constitution Square, 145 N Street NE., Washington, DC 20530.

Dated: June 13, 2012.
Jerri Murray,
Department Clearance Officer, PRA, United States Department of Justice.

[FR Doc. 2012-14842 Filed 6-18-12; 8:45 am]

BILLING CODE 4410-04-P